DEPARTMENT OF TRANSPORTATION

Federal Aviation Administration

14 CFR Part 39

[Docket No. FAA-2005-22739; Directorate Identifier 2005-NM-098-AD]

RIN 2120-AA64

Airworthiness Directives; Airbus Model A300 B4-600, B4-600R, and F4-600R Series Airplanes, and Model C4-605R Variant F Airplanes (Collectively Called A300-600 Series Airplanes); and Model A310-200 and A310-300 Series Airplanes

AGENCY: Federal Aviation Administration (FAA), Department of Transportation (DOT).

ACTION: Notice of proposed rulemaking (NPRM).

SUMMARY: The FAA proposes to adopt a new airworthiness directive (AD) for certain A300-600, A310-200, and A310-300 series airplanes. This proposed AD would require modifying the forward outflow valve of the pressure regulation subsystem. This proposed AD results from a report of accidents resulting in injuries occurring on in-service airplanes when crewmembers forcibly initiated opening of passenger/crew doors against residual pressure, causing the doors to rapidly open. In these accidents, the buildup of residual pressure in the cabin was caused by the blockage of the outflow valve by an insulation blanket. We are proposing this AD to prevent an insulation blanket or other debris from being ingested into and jamming the forward outflow valve of the pressure regulation subsystem, which could lead to the inability to control cabin pressurization and adversely affect continued safe flight of the airplane.

DATES: We must receive comments on this proposed AD by November 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed in the ADDRESSES section. Include the docket number “FAA-2005-22739; Directorate Identifier 2005-NM-098-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain A300-600, A310-200, and A310-300 series airplanes. The DGAC advises that accidents resulting in injuries have occurred on in-service airplanes when crewmembers forcibly initiated opening of passenger/crew doors against residual pressure (a positive pressure difference between inside the cabin and outside the cabin), causing the doors to rapidly open. In these accidents, the buildup of residual pressure in the cabin was caused by the blockage of the outflow valve by an insulation blanket, which prevented the valve from opening and closing during flight and on the ground to maintain control of cabin pressurization.

In addition, there have been several reports of operator difficulty maintaining cabin pressure during cruise. Investigation revealed that pieces of a cargo insulation blanket had been ingested into the forward outflow valve of the pressure regulation subsystem located at frame 39 of the fuselage.

These conditions, if not corrected, could lead to the inability to control cabin pressurization and adversely affect continued safe flight of the airplane.

Other Relevant Rulemaking

On June 29, 2004, we issued AD 2004-14-08, amendment 39-13717 (69 FR 41925, July 13, 2004), for certain Airbus Model A300-600 and A310 series airplanes. That AD requires modification of the attachment system of the insulation blankets of the forward cargo compartment and related corrective action. That AD was prompted by several reports of operator difficulty maintaining cabin pressure during cruise. Investigation revealed that pieces of a cargo insulation blanket had been ingested into the forward outflow valve of the pressure regulation subsystem located at frame 39 of the fuselage. We issued that AD to prevent failure of the attachment system of the cargo insulation blankets, which could result in detachment and consequent tearing of the blankets. Such tearing could result in blanket pieces being ingested into and jamming the forward outflow valve of the pressure regulation subsystem, which could lead to cabin depressurization and adversely affect continued safe flight of the airplane.

Relevant Service Information

Airbus has issued Service Bulletin A300-63-6149 (for Model A300-600 series airplanes), and Service Bulletin A310-53-2121 (for Model A310-200 and A310-300 series airplanes), both dated February 25, 2005. The service bulletins describe procedures for modifying the forward outflow valve of the pressure regulation subsystem. The modification includes installing brackets and installing a fence (protective grating) in the area of frame 38.2. The DGAC mandated the service information and issued French airworthiness directive F-2005-061 R1, dated May 25, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Difference Between French Airworthiness Directive and This Proposed AD

The applicability of French airworthiness directive F-2005-061 R1, dated May 25, 2005, excludes airplanes on which either Airbus Service Bulletin A300-53-6149 or Airbus Service Bulletin A310-53-2121 has been accomplished. However, we have not excluded those airplanes in the applicability of this proposed AD; rather, this proposed AD includes a requirement to accomplish the actions specified in the service bulletins. This requirement would ensure that the actions specified in the service bulletins and required by this proposed AD are accomplished on all affected airplanes. Operators must continue to operate the airplane in the configuration required by this proposed AD unless an alternative method of compliance is approved.

Costs of Compliance

This proposed AD would affect about 169 airplanes of U.S. registry. The proposed modification would take between 3 and 4 work hours per airplane, depending on airplane configuration, at an average labor rate of $65 per work hour. Required parts cost ranges between $120 and $420 per kit, (2 kits per airplane). Based on these figures, the estimated cost of the modification proposed by this AD for U.S. operators ranges between $73,515 and $185,900 or between $435 and $1,100 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22739; Directorate Identifier 2005-NM-098-AD.

Comments Due Date

(a) The FAA must receive comments on this AD action by November 21, 2005.

Affected ADs

(b) None.

Applicability

(c) This AD applies to the Airbus airplanes identified in Table 1 of this AD, certificated in any category; except airplanes on which Airbus Modification 12921 has been done in production.

Table 1.—Airbus Airplanes Affected by This AD
Airbus model | As identified in Airbus service bulletin— | Dated—
A300 B4-601, B4-603, B4-620, B4-622, B4-605R, B4-622R, F4-605R, F4-622R, and A300 C4-605R Variant F airplanes | A300-53-6149 | February 25, 2005.
A310-203, -204, -221, -222, -304, -322, -324, and -325 airplanes | A310-53-2121 | February 25, 2005.

Unsafe Condition

(d) This AD results from a report of accidents resulting in injuries occurring on in-service airplanes when crewmembers forcibly initiated opening of passenger/crew doors against residual pressure, causing the doors to rapidly open. In these accidents, the buildup of residual pressure in the cabin was caused by the blockage of the outflow valve by an insulation blanket. We are issuing this AD to prevent an insulation blanket or other debris from being ingested into and jamming the forward outflow valve of the pressure regulation subsystem, which could lead to the inability to control cabin pressurization and adversely affect continued safe flight of the airplane.

Compliance

(e) You are responsible for having the actions required by this AD performed within the compliance times specified, unless the actions have already been done.

Modification

(f) Within 22 months after the effective date of this AD: Modify the forward outflow value of the pressure regulation subsystem by doing all the actions in accordance with the Accomplishment Instructions of Airbus Service Bulletin A300-63-6149 (for Model A300-600 series airplanes) or A310-53-2121 (for Model A310-200 and A310-300 series airplanes), both dated February 25, 2005; as applicable.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) French airworthiness directive F-2005-061 R1, dated May 25, 2005, also addresses the subject of this AD.

Issued in Renton, Washington, on October 13, 2005.
Kalene C. Yanamura,
Acting Manager, Transport Airplane Directorate, Aircraft Certification Service.

[FR Doc. 05-20965 Filed 10-19-05; 8:45 am]

BILLING CODE 4910-13-P